DEPARTMENT OF TRANSPORTATION

Federal Railroad Administration

[Docket No. FRA-2023-0002-N-14]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 24, 2023.

ADDRESSES: Written comments and recommendations for the proposed ICR should be submitted on regulations.gov to the docket, Docket No. FRA-2023-2002. All comments received will be posted without change to the docket, including any personal information provided. Please refer to the assigned OMB control number (2130-0602) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Critical Incident Stress Plans.

OMB Control Number: 2130-0602.

Abstract: Under 49 CFR part 272, Class I, intercity passenger, and commuter railroads are required to develop, and submit to FRA for approval, a critical incident stress plan (CISP) that provides for appropriate support services to be offered to their employees who are affected by a critical incident as defined in 49 CFR 272.9. FRA uses the information collected to ensure the minimum standards of part 272 are met.

In this 60-day notice, FRA adjusted the respondent universe from 41 railroads to 40 railroads to reflect the current number of Class I, intercity passenger, and commuter railroads required to comply with part 272 requirements. FRA adjusted the total estimated annual burden in the PRA table from 467 hours to 246 hours. Specifically, under § 272.103(e), FRA adjusted the burden from 24 hours to 12 hours because FRA anticipates that the annual submissions of modified and existing CISP plans will decrease from 4 plans to 2 plans. Additionally, under § 272.103(f), FRA adjusted the burden from 416 hours to 208 hours because FRA anticipates that railroads will increasingly provide their employees with electronic copies of the CISPs rather than hard copies.

Type of Request: Extension without change (with changes in estimates) of a currently approved collection.

Affected Public: Businesses/Rail Labor Unions.

Form(s): N/A.

Respondent Universe: 40 railroads.

Frequency of Submission: On occasion.

Reporting Burden:

CFR section | Respondent universe | Total annual responses | Average time per response | Total annual burden hours | Total cost equivalent in U.S. dollar
|  | (A) | (B) | (C = A * B) | (D = C * wage rates) ¹
272.103(a)—Railroad submission of critical incident stress plan (CISP) to FRA for approval | 1 new railroad | 1 plan | 12 hours | 12.00 | $1,031.16
—(b) Railroad CISP copy to 5 labor organizations | 1 new railroad | 5 plan copies | 5 minutes | 0.42 | $36.09
—(c)(1) Rail labor organization comment to FRA on CISP submission | 5 employee labor organizations | 5 comments | 2 hours | 10.00 | 859.30
—(c)(2) Rail labor affirmative statement to FRA that comment copy has been served on railroad | 5 employee labor organizations | 5 certifications | 5 minutes | 0.42 | 36.09
—(e) Railroad submission of updated/modified existing CISP to FRA for approval | 40 railroads | 2 updated/modified plans | 6 hours | 12.00 | 1,031.16
—(f) Copy to RR employees of updated/modified CISP | 40 railroads | 2,500 copies | 5 minutes | 208.33 | 17,901.80
—(g) Railroads make copies of CISP available to FRA inspector upon request | 40 railroads | 25 plan copies | 5 minutes | 2.08 | 178.73
272.105—Requirement to file CISP electronically | 40 railroads | 3 CISP electronic submissions | 8 minutes | 0.40 | 34.37
Total ² | 40 railroads; 5 employee labor organizations | 2,546 responses | N/A | 246 | 21,109

Total Estimated Annual Responses: 2,546.

¹ The dollar equivalent cost is derived from the 2022 Surface Transportation Board Full Year Wage A&B data series using employee group 200 (Professional & Administrative) hourly wage rate of $49.10. The total burden wage rate (straight time plus 75%) used in the table is $85.93 ($49.10 × 1.75 = $85.93).

² Totals may not add due to rounding.

Total Estimated Annual Burden: 246.

Total Estimated Annual Burden Hour Dollar Cost Equivalent: $21,109.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-18330 Filed 8-24-23; 8:45 am]

BILLING CODE 4910-06-P